OFFICE OF MANAGEMENT AND BUDGET

2 CFR Chapters 1 and 2

48 CFR Chapter 99

Federal Regulations, Guidance, OFPP Policy Letters, and CASB Cost Accounting Standards Included in the Semiannual Agenda of Federal Activities

AGENCY: Office of Management and Budget.

ACTION: Semiannual regulatory agenda.

SUMMARY: The Office of Management and Budget (OMB) is publishing its semiannual agenda of upcoming activities for Federal regulations, OMB Guidance, Office of Federal Procurement Policy (OFPP) Policy Letters, and Cost Accounting Standards (CAS) Board Cost Accounting Standards.

OMB Guidance and OFPP Policy Letters are published in accordance with OMB's internal procedures for implementing Executive Order 12866 (58 FR 51735 (Oct. 4, 1993)). OMB policy guidelines are issued under authority derived from several sources, including: Subtitles I, II, and V of title 31, U.S. Code; Executive Order 11541; and other specific authority as cited. OMB Guidance and OFPP Policy Letters communicate guidance and instructions of a continuing nature to executive branch agencies. As such, most OMB Guidance and OFPP Policy Letters are not regulations. Nonetheless, because these issuances are typically of interest to the public, they are generally published in the Federal Register at both the proposed (for public comment) and final stages. For this reason, they are presented below in the standard format of “pre-rule,” “proposed rule,” and “final rule” stages.

CASB Cost Accounting Standards are issued under authority derived from 41 U.S.C. 1501 et seq. Cost Accounting Standards are rules governing the measurement, assignment, and allocation of costs to contracts entered into with the United States Government.

For purposes of this agenda, we have excluded directives that outline procedures to be followed in connection with the President's budget and legislative programs, as well as directives that affect only the internal functions, management, or personnel of Federal agencies.

FOR FURTHER INFORMATION CONTACT: See the agency contact person listed for each entry in the agenda, c/o Office of Management and Budget, Washington, DC 20503. On the overall agenda, contact Laura Dennehy, (202) 579-6597, at the above address.

Deidre A. Harrison,
Acting Deputy Controller, Office of Management and Budget.

Office of Management and Budget—Final Rule Stage
Sequence No. | Title | Regulation Identifier No.
338 | Federal Acquisition Security Council Implementing Regulation | 0348-AB83

Office of Management and Budget—Completed Actions
Sequence No. | Title | Regulation Identifier No.
339 | 2 CFR Changes to Address Statutory and/or Regulatory Needs | 0348-AB76

OFFICE OF MANAGEMENT AND BUDGET (OMB)

Final Rule Stage

338. Federal Acquisition Security Council Implementing Regulation

E.O. 13771 Designation: Other.

Legal Authority: Pub. L. 115-390 sec. 202(c)

Abstract: This interim final rule will implement subchapter III of chapter 13 of title 41, United States Code. Subchapter III creates the Federal Acquisition Security Council, and identifies a number of functions to be performed by the Council. The FASC is chaired by a designated OMB Senior-Level official, and Public Law 115-390 requires that the FASC publish an interim final rule to implement these functions.

Timetable:

Action | Date | FR Cite
Interim Final Rule | 09/01/20 | 85 FR 54263
Interim Final Rule Effective | 09/01/20
Interim Final Rule Comment Period End | 11/02/20
Final Rule | 12/00/20

Regulatory Flexibility Analysis Required: Yes.

Agency Contact: Steven McAndrews, Office of Management and Budget, Phone: 202 881-7145, Email: steven.m.mcandrews@omb.eop.gov.

Lisa Barr, Office of Management and Budget, Phone: 202 881-6798, Email: lisa.n.barr@omb.eop.gov.

RIN: 0348-AB83

OFFICE OF MANAGEMENT AND BUDGET (OMB)

Completed Actions

339. 2 CFR Changes To Address Statutory and/or Regulatory Needs

E.O. 13771 Designation: Not subject to, not significant.

Legal Authority: 31 U.S.C. 503

Abstract: The Office of Management and Budget will pursue proposed rulemaking to revise parts of title 2 of the Code of Federal Regulations (2 CFR) Subtitle A—OMB Guidance for Grants and Agreements (Guidance). The Guidance is scheduled for review every five years after December 26, 2013, per 2 CFR (200.109 Review date). The intent of the proposed revisions are to address burden reduction for recipients, fix inconsistent terminology, resolve conflict within areas of 2 CFR, incorporate the President's Management Agenda, and address statutes enacted since the final guidance was issued.

Timetable:

Action | Date | FR Cite
NPRM | 01/22/20 | 85 FR 3766
NPRM Comment Period End | 03/23/20
Final Rule | 08/13/20 | 85 FR 49506
Final Rule Effective | 11/12/20

Regulatory Flexibility Analysis Required: Yes.

Agency Contact: Nicole Waldeck, Senior Policy Analyst, Office of Management and Budget, 725 17th Street NW, Washington, DC 20006, Phone: 202 395-3819, Email: nicole.r.waldeck@omb.eop.gov.

RIN: 0348-AB76

[FR Doc. 2021-04349 Filed 3-30-21; 8:45 am]

BILLING CODE 3110-01-P